DEPARTMENT OF COMMERCE

National Oceanic and Atmospheric Administration

Draft Environmental Assessment for the Funding, Procurement, and Operation of NOAA Small Uncrewed Aircraft Systems

AGENCY: Office of Oceanic and Atmospheric Research (OAR), National Oceanic and Atmospheric Administration (NOAA), Department of Commerce (DOC).

ACTION: Notice of availability; request for comments.

SUMMARY: NOAA's Uncrewed Systems Research Transition Office (UxSRTO) in OAR has prepared a Draft Environmental Assessment (EA) for the Funding, Procurement, and Operation of NOAA Small Uncrewed Aircraft Systems (UAS). We are making the draft EA available for public review and comment.

DATES: Written comments must be received on or before March 17, 2023.

ADDRESSES: The Draft EA is available online at https://orta.research.noaa.gov/wp-content/uploads/2023/01/Draft-PEA-for-NOAA-Small-Unmanned-Aircraft-Systems.pdf. Please submit public comments via email to UXS.OAR@NOAA.gov with the subject line “Public Comment on Draft EA for UAS.” Please be aware that comments submitted may be posted on a Federal website or otherwise released publicly. Clearly indicate the section, page number, and line number, if applicable, to which submitted comments pertain. All comments must be provided in English. No business proprietary information, copyrighted information, or personally identifiable information should be submitted. Please note that the U.S. Government will not pay for response preparation, or for the use of any information contained in the response.

FOR FURTHER INFORMATION CONTACT: Bryan Cole, Director, NOAA Uncrewed Systems Research Transition Office (email: bryan.cole@noaa.gov or phone number: 831-601-2107).

SUPPLEMENTARY INFORMATION: The UxSRTO is often directly or indirectly involved in the funding, procurement, and operation of small UAS during the course of its normal office functions. The UxSRTO, and its predecessor, the NOAA UAS Program Office in OAR, were formally established to provide guidance and expertise in support of NOAA's efforts in the testing and development of UAS and to help expand UAS research, development, and transitions to operations and commercialization. The draft EA evaluates the potential impacts on the environment from the types of small UAS platforms and operations commonly supported by the UxSRTO across NOAA, in any environment for which NOAA has a mission and potential need for UAS resources to help meet related mission objectives.

For purposes of the assessment, the use of the term “small UAS” follows suit with the Federal Aviation Administration's (FAA) definition of “small unmanned aircraft” (14 CFR 107.3), which weigh “less than 55 pounds on takeoff, including everything that is on board or otherwise attached to the aircraft.” The geographic scope of the action area includes the airspace ranging from just above the surface (for launch and recovery), extending upward to an operational altitude of approximately 400 ft. above ground level (AGL) for a majority of applications, but may also include operational altitudes up to as high as 100,000 ft. mean sea level (MSL) for a few others.

UxSRTO proposes that the support for small UAS operations at NOAA, as described in the proposed action, would have no significant impact on the environment. The Draft EA has been prepared in accordance with the National Environmental Policy Act of 1969 (NEPA), as amended (42 U.S.C. 4321 et seq.) and Council on Environmental Quality implementing regulations (40 CFR parts 1500-1508), as well as NOAA's procedures for compliance with NEPA as specified in the Companion Manual to NOAA Administrative Order 216-6A.

David Holst,
Chief Financial Officer/Administrative Officer, Office of Oceanic and Atmospheric Research, National Oceanic and Atmospheric Administration.

[FR Doc. 2023-03222 Filed 2-14-23; 8:45 am]

BILLING CODE 3510-KD-P